COMMODITY FUTURES TRADING COMMISSION

Sunshine Act; Meeting

Agency Holding the Meeting: Commodity Futures Trading Commission (Commission).

Date and Time: Tuesday, June 27, 2006, commencing at 10 a.m.

Place: 1155 21st Street, NW., Washington, DC, Lobby Level Hearing Room (Room 1000).

Status: Open.

Matters to be Considered: Public Hearing on the Issue of What Constitutes a Board of Trade Located Outside of the United States Under Section 4(a) of the Commodity Exchange Act.

Contact Persons and Addresses: Requests to appear and supporting materials should be mailed to the Commodity Futures Trading Commission, Three Lafayette Center, 1155 21st Street, NW., Washington, DC 20581, attention Office of the Secretariat; transmitted by facsimile at 202-418-5521; or transmitted electronically to secretary@cftc.gov. Reference should be made to “What Constitutes a Board of Trade Located Outside of the United States.” For substantive questions on requests to appear and supporting materials, please contact David P. Van Wagner, Chief Counsel, (202) 418-5481; or Duane Andresen, Special Counsel, (202) 418-5429, Division of Market Oversight.

SUPPLEMENTARY INFORMATION: On May 3, 2006, the Commission directed its staff to initiate a formal process to define what constitutes “a board of trade, exchange, or market located outside the United States, its territories, or possessions” as that phrase is used in section 4(a) of the Commodity Exchange Act (CEA). In furtherance of that process, the Commission hereby announces that it will hold a public hearing to commence on Tuesday, June 27, 2006, at 10 a.m., at the Commission's headquarters in Washington, DC. An agenda, including specific topics and issues to be discussed, will be published as the hearing date approaches. All individuals or organizations wishing to appear before the Commission must submit to the Secretariat, at the above address, a request to appear. Such requests must be received by June 12, 2006, and must include the name of the individual appearing; the entity that he or she represents, if any; a concise statement of interest and qualifications; and a brief summary or abstract of his or her statement. The Commission will invite a representative number of individuals or organizations to appear at the hearing from those submitting requests to appear. A transcript of the hearing will be made and entered into the Commission's public comment files, which will remain open for the receipt of written comments until July 12, 2006.

The Commission believes that providing interested members of the public with an opportunity to appear before it, respond to questions, and address diverse viewpoints will enhance its decision-making as it progresses in the formal process of defining what constitutes a board of trade located outside the United States under CEA Section 4(a).

Issued in Washington, DC, on May 25, 2006, by the Commission.
Eileen A. Donovan,
Acting Secretary of the Commission.

[FR Doc. 06-4996 Filed 5-25-06; 3:58 pm]

BILLING CODE 6351-01-P